DEPARTMENT OF ENERGY

10 CFR Part 430

[Docket No. EERE-2008-BT-STD-0005]

RIN 1904-AB57

Request for Information on Evaluating New Products for the Battery Chargers and External Power Supply Rulemaking

AGENCY: Office of Energy Efficiency and Renewable Energy, Department of Energy.

ACTION: Request for information (RFI) for proposed rulemaking.

SUMMARY: The U.S. Department of Energy (DOE) requests information to help inform its current rulemaking in which it has proposed to set energy conservation standards for classes of battery chargers and external power supplies. Specifically, DOE seeks information on battery chargers that manufacturers have certified as compliant with the California Energy Commission (CEC) standards that became effective on February 1, 2013. DOE is actively reviewing battery chargers that have been certified as compliant with the CEC standards to determine if the analysis DOE prepared in support of the notice of proposed rulemaking for Battery Chargers and External Power Supplies published on March 27, 2012, needs revision in light of the availability of these products. Based on testing data and information received from stakeholders, DOE may propose alternative energy conservation standard levels for battery chargers if it is determined that new energy conservation standards for battery chargers are technologically feasible and economically justified. If DOE determined that different standards could satisfy these criteria, DOE would issue a supplemental notice of proposed rulemaking in order to discuss any new findings, propose alternative energy conservation standard levels, and request stakeholder feedback. At this time, DOE welcomes written comments from the public on the issues brought up in this Request for Information or on any other topic within the scope of this rulemaking.

DATES: Written comments and information are requested on or before May 28, 2013.

ADDRESSES: Interested persons are encouraged to submit comments using the Federal eRulemaking Portal at http://www.regulations.gov. Follow the instructions for submitting comments. Alternatively, interested persons may submit comments, identified by docket number EERE-2011-BT-STD-0005, by any of the following methods:

• Email: to BC&EPS_ECS@ee.doe.gov. Include EERE-2011-BT-STD-0005 in the subject line of the message.

• Mail: Ms. Brenda Edwards, U.S. Department of Energy, Building Technologies Program, Mailstop EE-2J, Revisions to Energy Efficiency Enforcement Regulations, EERE-2011-BT-STD-0005, 1000 Independence Avenue SW., Washington, DC 20585- 0121. Phone: (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

Instructions: All submissions received must include the agency name and docket number or RIN for this rulemaking.

Docket: For access to the docket to read background documents, or comments received, go to the Federal eRulemaking Portal at http://www.regulations.gov.

FOR FURTHER INFORMATION CONTACT: Direct requests for additional information may be sent to Mr. Jeremy Dommu, U.S. Department of Energy, Office of Energy Efficiency and Renewable Energy, Building Technologies Program, EE-2J, 1000 Independence Avenue SW., Washington, DC 20585-0121. Telephone: 202-586-9870. Email: battery_chargers_and_external_power_supplies@ee.doe.gov or Mr. Michael Kido, Esq., U.S. Department of Energy, Office of General Counsel, GC-71, 1000 Independence Avenue SW., Washington, DC 20585-0121, (202) 586-8145, Michael.Kido@hq.doe.gov

SUPPLEMENTARY INFORMATION:

Table of Contents

I. Introduction

II. Discussion

III. Public Participation

I. Introduction

On March 27, 2012, the U.S. Department of Energy (DOE) published a notice of proposed rulemaking (NOPR) proposing Federal energy conservation standards for battery chargers and external power supplies (BCEPS). 77 FR 18478. This proposal, however, came after the California Energy Commission (CEC) had issued its own standards for battery charger systems on January 12, 2012, which took effect on February 1, 2013.¹ There is some overlap between the classes of battery chargers affected by the CEC rule and those classes of battery chargers that DOE is proposing to regulate. Additionally, the standards proposed by DOE differ from the ones issued by the CEC, with some being more stringent and others being less stringent than the CEC standards. Pursuant to the Energy Policy and Conservation Act of 1975, as amended (EPCA), DOE performs a robust analysis to determine whether potential new or amended energy conservation standards that DOE prescribes for certain products, such as battery chargers, are designed to achieve the maximum improvement in energy efficiency that is technologically feasible and economically justified. (42 U.S.C. 6295(o)(2)(A)). While the analysis performed in support of the NOPR determined that the proposed standards would achieve the maximum improvement in energy efficiency that is technologically feasible and economically justified, DOE is interested in determining if revisions to its analysis are necessary now that manufacturers have begun complying with CEC standards that are more stringent than DOE's proposed energy conservation standards for some product classes of battery chargers.

¹ http://www.energy.ca.gov/appliances/battery_chargers/.

II. Discussion

DOE is particularly interested in the effect the CEC standards have on the market for battery chargers within DOE's product classes 2 through 6, as DOE's proposed standards are lower than the equivalent CEC standards for these product classes. Under EPCA, any standards that DOE sets will preempt CEC's standards once those Federal standards become effective. See 42 U.S.C. 6295(ii) (prescribing specific application for the preemption of State and local standards for, among other products, battery chargers and external power supplies). Table 1 compares the Candidate Standard Levels (CSLs) proposed in the NOPR to the CSLs closest to the CEC standards for each product class. Further details on each product class can be found in the NOPR for battery chargers and external power supplies. 77 FR 18478 (March 27, 2012).

Table 1—CSLs Equivalent to California Proposed Standards
Product class | DOE proposed level | CSL closest equivalent to CEC standard
1 (Low-Energy, Inductive) | CSL 2 | CSL 0.
2 (Low-Energy, Low-Voltage) | CSL 1 | CSL 2.
3 (Low-Energy, Medium-Voltage) | CSL 1 | CSL 2.
4 (Low-Energy, High-Voltage) | CSL 1 | CSL 2.
5 (Medium-Energy, Low-Voltage) | CSL 2 | CSL 3.
6 (Medium-Energy, High-Voltage) | CSL 2 | CSL 3.
7 (High-Energy) | CSL 1 | CSL 1.
8 (DC Input < 9 V) | CSL 1 | CSL 0.
10 (AC Output) | CSL 3 | CSL 3.

DOE is interested in learning information about how manufacturers are complying with the CEC standards, particularly with respect to the technologies that are being used. DOE is particularly interested in products contained within CEC's public database² which contains a listing of products that meet the CEC standards. DOE has already identified several battery chargers in that list for further analysis. Thus far these products have included chargers in end use products such as wireless mouse devices, cordless phones, power tools, and cordless vacuums. Using the information sought in this notice, DOE plans to assess whether its current analyses need revision.

² Available here: www.appliances.energy.ca.gov/.

If any new information is presented that was not previously considered by DOE in the NOPR, DOE may revise its analysis. If a revised analysis supports an alternative proposed energy conservation standards for certain product classes, DOE would issue a supplemental notice of proposed rulemaking (SNOPR). Following a SNOPR publication, stakeholders would have additional opportunity to provide comments to DOE.

III. Public Participation

A. Submission of Information

DOE will accept comments in response to this RFI under the timeline provided in the DATES section. Comments submitted to the Department through the eRulemaking Portal or by email should be provided in WordPerfect, Microsoft Word, portable document format (PDF), or text file format. Those responding should avoid the use of special characters or any form of encryption. No facsimiles will be accepted. Comments submitted in response to this notice will become a matter of public record and will be made publicly available.

B. Issues on Which DOE Seeks Information

For this RFI, DOE requests comments, information, and recommendations on the following topics for the purpose of determining if DOE should revise its NOPR analysis:

1. DOE seeks comment on the product designs and technologies used by manufacturers to meet the CEC standards, as well as other changes made to the products since DOE's initial NOPR analysis.

2. DOE seeks comment on the product costs incurred by manufactures to meet the CEC standards, including those related to engineering, design, manufacturing and product labeling.

3. DOE seeks information on the impact of the CEC standards on manufacturer's supply chain. Specifically, DOE seeks information on whether manufacturers will continue to manufacture products that do not meet the CEC standards for sale outside California, while selling a separate product of similar utility and function compliant with CEC standards for sale in California

4. DOE requests information on whether there are any types of products that have been discontinued from sale in California due to the CEC standards. DOE is specifically interested in whether these discontinued products offer consumer utility not offered by products compliant with the CEC standards.

5. Finally, DOE seeks information from manufacturers on the potential costs and burdens of complying with a battery charger labeling requirement.

DOE is also interested in comments on other relevant issues that participants believe would affect the proposed standards for battery chargers. DOE invites all interested parties to submit in writing by May 28, 2013, comments and information on matters addressed in this notice and on other matters relevant to DOE's consideration of the battery charger and external power supply rulemaking.

After the close of the comment period, DOE will review the public comments and determine if any changes to the proposed standards for the battery charger and external power supply rulemaking are necessary and warranted.

DOE considers public participation to be a very important part of the process for developing rulemakings. DOE actively encourages the participation and interaction of the public during the comment period in each stage of the rulemaking process. Interactions with and between members of the public provide a balanced discussion of the issues and assist DOE in the rulemaking process. Anyone who wishes to be added to the DOE mailing list to receive future notices and information about this rulemaking should contact Ms. Brenda Edwards at (202) 586-2945, or via email at Brenda.Edwards@ee.doe.gov.

Issued in Washington, DC, on March 19, 2013.
Kathleen B. Hogan,
Deputy Assistant Secretary for Energy Efficiency, Energy Efficiency and Renewable Energy.

[FR Doc. 2013-06745 Filed 3-25-13; 8:45 am]

BILLING CODE 6450-01-P